NATIONAL TRANSPORTATION SAFETY BOARD

49 CFR Part 831

[Docket No. NTSB-GC-2012-0002]

RIN 3147-AA01

Investigation Procedures

AGENCY: National Transportation Safety Board (NTSB).

ACTION: Notice of proposed rulemaking (NPRM); extension of comment period.

SUMMARY: On August 12, 2014, the NTSB published a Notice of Proposed Rulemaking (NPRM) to amend its regulations concerning its investigation procedures. The NTSB is publishing this notice to inform the public that it is extending the comment period for the NPRM to October 31, 2014.

DATES: Submit comments on or before October 31, 2014.

ADDRESSES: A copy of this NPRM, published in the Federal Register (FR), is available for inspection and copying in the NTSB's public reading room, located at 490 L'Enfant Plaza SW., Washington, DC 20594-2003. Alternatively, a copy is available on the government-wide Web site on regulations at http://www.regulations.gov (Docket ID Number NTSB-GC-2012-0002).

You may send comments identified by Docket ID Number NTSB-GC-2012-0002 using any of the following methods:

Federal eRulemaking Portal: Go to http://www.regulations.gov and follow the instructions for sending your comments electronically.

Mail: Send comments to NTSB Office of General Counsel, 490 L'Enfant Plaza East SW., Washington, DC 20594-2003.

Facsimile: Fax comments to 202-314-6090.

Hand Delivery: Bring comments to 490 L'Enfant Plaza East SW., 6th Floor, Washington, DC, between 9 a.m. and 5 p.m., Monday through Friday, except Federal holidays.

Privacy: We will post all comments we receive, without change, to http://www.regulations.gov, including any personal information provided.

FOR FURTHER INFORMATION CONTACT: David Tochen, General Counsel, (202) 314-6080.

SUPPLEMENTARY INFORMATION: After issuing the August 12, 2014 Notice of Proposed Rulemaking concerning the NTSB's event investigation procedures (79 FR 47064), representatives from other Federal agencies contacted the NTSB to inform us they would need more time to submit comments. After considering these requests, and in light of the comprehensive nature of the NPRM, we believe it prudent to extend the comment period to October 31, 2014.

In accordance with 49 CFR 800.24(c), the Board has delegated to the General Counsel the authority to “[a]pprove or disapprove, for good cause shown, requests to extend the time for filing comments on proposed new or amended regulations.” I find good cause exists to provide the public additional time to submit thorough comments. Based on this authority, I submit this notice to extend the comment period for the NPRM concerning 49 CFR part 831 to October 31, 2014.

David K. Tochen,
General Counsel.

[FR Doc. 2014-24360 Filed 10-9-14; 8:45 am]

BILLING CODE 7533-01-P